NUCLEAR REGULATORY COMMISSION

Advisory Committee on the Medical Uses of Isotopes; Meeting Notice

AGENCY: Nuclear Regulatory Commission.

ACTION: Notice of meeting.

The U.S. Nuclear Regulatory Commission will convene a meeting of the Advisory Committee on the Medical Uses of Isotopes (ACMUI) on March 7-8, 2018. A sample of agenda items to be discussed during the public session includes: (1) A discussion on medical-related events; (2) an update on the worldwide supply and domestic production of molybdenum-99; (3) a discussion on the resources needed to address the development of emerging medical technologies; and (4) a discussion of staff's evaluation of the ACMUI's recommendations related to medical event reporting under title 10 Code of Federal Regulations (10 CFR) 35.3045 and impact on safety culture at medical institutions. The agenda is subject to change. The current agenda and any updates will be available at http://www.nrc.gov/reading-rm/doc-collections/acmui/meetings/2018.html or by emailing Ms. Sophie Holiday at the contact information below.

Purpose: Discuss issues related to 10 CFR part 35 Medical Use of Byproduct Material.

Date and Time for Open Sessions: March 7, 2018, from 8:30 a.m. to 2:30 p.m. and March 8, 2018, from 8:30 a.m. to 2:45 p.m. Eastern Standard Time.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live at https://video.nrc.gov/.

Contact Information: Sophie Holiday, email: sophie.holiday@nrc.gov, telephone: (301) 415-7865.

Conduct of the Meeting

Philip O. Alderson, M.D. will chair the meeting. Dr. Alderson will conduct the meeting in a manner that will facilitate the orderly conduct of business. The following procedures apply to public participation in the meeting:

1. Persons who wish to provide a written statement should submit an electronic copy to Ms. Holiday using the contact information listed above. All submittals must be received by March 2, 2018, three business days before the meeting, and must pertain to the topics on the agenda for the meeting.

2. Questions and comments from members of the public will be permitted during the meeting, at the discretion of the Chairman.

3. The draft transcript and meeting summary will be available on ACMUI's website http://www.nrc.gov/reading-rm/doc-collections/acmui/meetings/2018.html on or about April 19, 2018.

4. Persons who require special services, such as those for the hearing impaired, should notify Ms. Holiday of their planned attendance.

This meeting will be held in accordance with the Atomic Energy Act of 1954, as amended (primarily Section 161a); the Federal Advisory Committee Act (5 U.S.C. App); and the Commission's regulations in 10 CFR part 7.

Dated at Rockville, Maryland this 1st day of February, 2018.
For the Nuclear Regulatory Commission.
Russell E. Chazell,
Advisory Committee Management Officer.

[FR Doc. 2018-02375 Filed 2-6-18; 8:45 am]

BILLING CODE 7590-01-P